DEPARTMENT OF HOMELAND SECURITY

Federal Emergency Management Agency

[Docket ID FEMA-2011-0041; OMB No. 1660-0070]

Agency Information Collection Activities: Proposed Collection; Comment Request, National Fire Department Census

AGENCY: Federal Emergency Management Agency, DHS.

ACTION: Notice.

SUMMARY: The Federal Emergency Management Agency, as part of its continuing effort to reduce paperwork and respondent burden, invites the general public and other Federal agencies to take this opportunity to comment on a proposed revision of a currently approved information collection. In accordance with the Paperwork Reduction Act of 1995, this notice seeks comments concerning the use of a form to collect data for the development and continuation of the National Fire Department Census.

DATES: Comments must be submitted on or before March 12, 2012.

ADDRESSES: To avoid duplicate submissions to the docket, please use only one of the following means to submit comments:

(1) Online. Submit comments at www.regulations.gov under Docket ID FEMA-2011-0041. Follow the instructions for submitting comments.

(2) Mail. Submit written comments to Regulatory Affairs Division, Office of Chief Counsel, DHS/FEMA, 500 C Street SW., Room 835, Washington, DC 20472-3100.

(3) Facsimile. Submit comments to (703) 483-2999.

(4) Email. Submit comments to FEMA-POLICY@dhs.gov. Include Docket ID FEMA-2011-0041 in the subject line.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Gayle Kelch, Statistician, United States Fire Administration, National Fire Data Center, (301) 447-1154 for additional information. You may contact the Records Management Division for copies of the proposed collection of information at facsimile number (202) 646-3347 or email address: FEMA-Information-Collections-Management@dhs.gov.

SUPPLEMENTARY INFORMATION: Public Law 93-498 provides for the gathering and analyzing of data as deemed useful and applicable for fire departments. The U.S. Fire Administration (USFA) receives many requests from fire service organizations and the general public for information related to fire departments, including total number of departments, number of stations per department, population protected, and number of firefighters. The USFA also has a need for this information to guide programmatic decisions, and produce mailing lists for USFA publications. Recommendations for the creation of the fire department census database came out of a Blue Ribbon Panel's review of the USFA. The report included a review of the structure, mission, and funding of the USFA, future policies, programmatic needs, course development and delivery, and the role of the USFA to reflect changes in the fire service. As a result of those recommendations, the USFA is working to identify all fire departments in the United States to develop a database that will include information related to demographics, capabilities, and activities of fire departments Nationwide.

In the first year of this effort, information was collected from 16,000 fire departments. Since the first year of the collection, an additional 10,500 departments have registered with the census for a total of 26,500 fire departments. This leaves an estimated 3,500 departments still to respond. Additionally, about 5,300 current census registered departments are contacted by USFA each year and are asked to provide updates to any previously submitted information.

Collection of Information

Title: National Fire Department Census.

Type of Information Collection: Revision of a currently approved information collection.

OMB Number: 1660-0070.

Form Titles and Numbers: FEMA Form 070-0-0-1, National Fire Department Census.

Abstract: This collection seeks to identify fire departments in the United States to compile and update a database related to their demographics, capabilities, and activities. The database is used to guide programmatic decisions and provide information to the public and the fire service.

Affected Public: State, Local, or Tribal Government.

Estimated Total Annual Burden Hours: 2,342 hours.

Type of respondent | Form name/Form number | Number of respondents | Number of responses per respondent | Total number of responses | Avg. burden per response (in hours) | Total annual burden (in hours)
State, Local, or Tribal (career) | National Fire Department Census/FEMA Form 070-0-0-1 | 490 | 1 | 490 | .4167 hours (25 minutes) | 204
State, Local, or Tribal (volunteer) | National Fire Department Census/FEMA Form 070-0-0-1 | 3,010 | 1 | 3,010 | .4167 hours (25 minutes) | 1,254
State, Local, or Tribal (career) | National Fire Department Census/FEMA Form 070-0-0-1 (update) | 742 | 1 | 742 | .1667 hours (10 minutes) | 124
State, Local, or Tribal (volunteer) | National Fire Department Census/FEMA Form 070-0-0-1 (update) | 4,558 | 1 | 4,558 | .1667 hours (10 minutes) | 760
Total |  | 8,800 |  | 8,800 |  | 2,342

Estimated Cost: The estimated annual cost to respondents for the hour burden is $10,539. The estimated annual cost to respondents operations and maintenance costs for technical services is $0. There are no annual start-up or capital costs. The cost to the Federal government is $85,770.

Comments

Comments may be submitted as indicated in the ADDRESSES caption above. Comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

John G. Jenkins, Jr.,
Acting Director, Records Management Division, Mission Support Bureau, Federal Emergency Management Agency, Department of Homeland Security.

[FR Doc. 2012-484 Filed 1-11-12; 8:45 am]

BILLING CODE 9111-45-P